DEPARTMENT OF HEALTH AND HUMAN SERVICES

Administration for Community Living

Agency Information Collection Activities; Submission for OMB Review; Comment Request; State Health Insurance Assistance Program (SHIP) Client Contact Form, Public and Media Activity Report Form, and Resource Report Form

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by July 28, 2016.

ADDRESSES: Submit written comments on the collection of information by email to Philip.Mckoy@acl.hhs.gov.

FOR FURTHER INFORMATION CONTACT: Phillip Mckoy at 202.795.7397 or email: Phillip.Mckoy@acl.hhs.gov.

SUPPLEMENTARY INFORMATION: In compliance with 44 U.S.C. 3507, ACL has submitted the following proposed collection of information to OMB for review and clearance.

Grantees are required by Congress to provide information for use in program monitoring and for Government Performance and Results Act (GPRA) purposes. This information collection reports Client Contact Form, Public and Media Activity Report Form, and Resource Report Form, which have been used to collect data to evaluate program effectiveness and improvement. This information is used as the primary method for monitoring the SHIP Projects. ACL estimates the burden of this collection of information as follows: Respondents: 54 SHIP grantees at 18 hours per month (216 hours per year, per grantee). Total Estimated Burden Hours: 11,664 hours per year.

Dated: June 20, 2016.
Kathy Greenlee,
Administrator and Assistant Secretary for Aging.

[FR Doc. 2016-15308 Filed 6-27-16; 8:45 am]

BILLING CODE 4154-01-P